NUCLEAR REGULATORY COMMISSION

AREVA NP Inc.; Notice of Receipt of Application for Design Certification of the U.S. EPR

Notice is hereby given that the Nuclear Regulatory Commission (NRC, the Commission) has received an application from AREVA NP Inc. (AREVA) dated December 11, 2007, filed pursuant to section 103 of the Atomic Energy Act and Title 10 of the Code of Federal Regulations (10 CFR) Part 52, for standard design certification of the U.S. EPR Standard Plant Design.

The U.S. EPR design is an approximately 1600 megawatts electric evolutionary pressurized water reactor (PWR). The primary system design, loop configuration, and main components design are similar to those of currently operating PWRs. The U.S. EPR contains unique design features, such as four redundant trains of emergency core cooling; Containment and Shield Building, and a core melt retention system for severe accident mitigation. The U.S. EPR application includes the entire power generation complex, except those elements and features considered site-specific. The acceptability of the tendered application for docketing and other matters relating to the requested rulemaking pursuant to 10 CFR 52.51 for design certification, including provisions for participation of the public and other parties, will be the subject of subsequent Federal Register notices.

A copy of the application will be available for public inspection at the Commission's Public Document Room (PDR), located at One White Flint North, 11555 Rockville Pike (first floor), Rockville, Maryland. Publicly available records will be accessible from the Agencywide Documents Access and Management System (ADAMS) Public Electronic Reading Room on the Internet at the NRC Web site, http://www.nrc.gov/reading-rm/adams.html. The accession number for the application is ML073520305. Future publicly available documents related to the application will also be posted in ADAMS. Persons who do not have access to ADAMS or who encounter problems in accessing the documents located in ADAMS, should contact the NRC Public Document Room Reference staff by telephone at 1-800-397-4209, 301-415-4737 or by e-mail to pdr@nrc.gov.

Dated at Rockville, Maryland, this 2nd day of January 2008.
For the Nuclear Regulatory Commission.
Getachew Tesfaye,
Sr. Project Manager, EPR Projects Branch, Division of New Reactor Licensing, Office of New Reactors.

[FR Doc. E8-423 Filed 1-11-08; 8:45 am]

BILLING CODE 7590-01-P